DEPARTMENT OF THE INTERIOR

National Park Service

National Capital Memorial Commission; Notice of Public Meeting

AGENCY: Department of the Interior, National Park Service, National Capital Memorial Commission.

ACTION: Notice of meeting.

SUMMARY: Notice is hereby given in accordance with the Federal Advisory Committee Act that a meeting of the National Capital Memorial Commission (the Commission) will be held at 1 pm., on Thursday, May 22, at the National Building Museum, Room 312, 5th and F Streets, NW., Washington, DC.

The purpose of the meeting will be to discuss currently authorized and proposed memorials in the District of Columbia and its environs.

In addition to discussing general matters and conducting routine business, the Commission will review the following: Legislative proposals introduced and reintroduced in the 108th Congress to establish memorials in the District of Columbia and its environs.

Action Items

(1) H.R. 591, a bill to authorize the Ukrainian Congress Committee of America to establish a memorial on Federal land in the District of Columbia to honor the victims of the Ukrainian famine-genocide of 1932-1933;

(2) S. 296, a bill to require the Secretary of Defense to report to Congress regarding the requirements applicable to the inscription of veterans' names on the memorial wall of the Vietnam Veterans Memorial;

(3) H.R. 1442, a bill to authorize the design and construction of a visitor center for the Vietnam Veterans Memorial; and

(4) S. 470 and H.R. 1209, bills to extend the authority for the construction of a memorial to Martin Luther King, Jr.

Other Business

(1) General matters and routine business.

The meeting will be open to the public. Any person may file with the Commission a written statement concerning the matters to be discussed. Persons who wish to file a written statement or testify at the meeting or who want further information concerning the meeting may contact Ms. Nancy Young, Secretary to the Commission, at (202) 619-7097.

DATES: Thursday, May 22, 2003, at 1 p.m.

ADDRESSES: Room 312, National Building Museum, 5th and F Streets, NW., Washington, DC 20001.

FOR FURTHER INFORMATION CONTACT: Ms. Nancy Young, Secretary to the Commission, 202-619-7097.

SUPPLEMENTARY INFORMATION: The Commission was established by Public Law 99-652, the Commemorative Works Act (40 U.S.C. 1001 et seq.), to advise the Secretary of the Interior (the Secretary) and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service.

Chairman, National Capital Planning Commission.

Architect of the Capitol.

Chairman, American Battle Monuments Commission.

Chairman, Commission of Fine Arts.

Mayor of the District of Columbia.

Administrator, General Services Administration.

Secretary of Defense.

Dated: April 8, 2003.
Gentry Davis,
Acting Regional Director, National Capital Region.

[FR Doc. 03-10902 Filed 5-1-03; 8:45 am]

BILLING CODE 4310-70-M